INTERNATIONAL TRADE COMMISSION

[Investigation No. 337-TA-1234]

Certain Radio Frequency Identification (“RFID”) Products, Components Thereof, and Products Containing the Same; Notice of a Commission Determination Not To Review an Initial Determination Terminating the Investigation on the Basis of Settlement; Termination of the Investigation

AGENCY: U.S. International Trade Commission.

ACTION: Notice.

SUMMARY: Notice is hereby given that the U.S. International Trade Commission has determined not to review an initial determination (“ID”) (Order No. 23) terminating the investigation on the basis of settlement. The investigation is terminated in its entirety.

FOR FURTHER INFORMATION CONTACT: Amanda P. Fisherow, Office of the General Counsel, U.S. International Trade Commission, 500 E Street SW, Washington, DC 20436, telephone (202) 205-2737. Copies of non-confidential documents filed in connection with this investigation may be viewed on the Commission's electronic docket information system (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted the present investigation on December 29, 2020, based on a complaint and supplement thereto filed by Amtech Systems LLC of Albuquerque, New Mexico (“Complainant”). 85 FR 85660-61 (Dec. 29, 2020). The complaint, as supplemented, alleged violations of section 337 of the Tariff Act of 1930, as amended, 19 U.S.C. 1337, based upon the importation, sale for importation, and sale in the United States after importation of certain RFID products, components thereof, and products containing the same that allegedly infringe certain claims of U.S. Patent No. 7,518,532; U.S. Patent No. 7,772,977; U.S. Patent No. 8,237,565; U.S. Patent No. 7,548,153; U.S. Patent No. 8,427,279; and U.S. Patent No. 10,083,329. Id. The complaint further alleged that an industry in the United States exists, or is in the process of being established, as required by section 337. Id. The notice of investigation named Kapsch TrafficCom AG of Vienna, Austria; Kapsch TrafficCom B.V. of Breda Noord-Brabant, Netherlands; Kapsch TrafficCom Canada, Inc. of Mississauga, Canada; Kapsch TrafficCom Holding Corp. of McLean, Virginia; Kapsch TrafficCom Holding II US Corp. of McLean, Virginia; Kapsch TrafficCom IVHS, Inc. of McLean, Virginia; Kapsch TrafficCom USA, Inc. of McLean, Virginia; Kapsch TrafficCom Inc. of McLean, Virginia; and Kapsch TrafficCom Services USA, Inc of McLean, Virginia. Id. at 855661. The Office of Unfair Import Investigations was also named as a party to this investigation. Id.

On September 30, 2021, the private parties filed a joint unopposed motion to terminate the investigation on the basis of settlement. The parties represented that “there are no other agreements, written or oral, express or implied, between them concerning the subject matter of this proceeding.” Mot. at 1.

On October 19, 2021, the presiding administrative law judge issued Order No. 23, granting the joint motion to terminate the investigation on the basis of settlement. The ID found that the motion complies with the requirements of Commission Rule 210.21 (19 CFR 210.21(a), (b)) and that there is no evidence that indicates that termination would adversely affect the public interest. No party filed a petition for review of the ID.

The Commission has determined not to review this ID. Accordingly, the investigation is terminated.

The Commission vote for this determination took place on November 4, 2021.

The authority for the Commission's determination is contained in Section 337 of the Tariff Act of 1930, as amended (19 U.S.C. 1337), and in part 210 of the Commission's Rules of Practice and Procedure (19 CFR part 210).

By order of the Commission.
Issued: November 5, 2021.
Lisa Barton,
Secretary to the Commission.

[FR Doc. 2021-24600 Filed 11-9-21; 8:45 am]

BILLING CODE 7020-02-P